DEPARTMENT OF TRANSPORTATION

Federal Aviation Administration

14 CFR Part 71

[Docket No. FAA-2023-1021; Airspace Docket No. 22-AWA-6]

RIN 2120-AA66

Establishment of Class C Airspace and Removal of Class D Airspace; Harrisburg International Airport, PA

AGENCY: Federal Aviation Administration (FAA), DOT.

ACTION: Final rule.

SUMMARY: This action establishes Class C airspace and removes Class D airspace at the Harrisburg International Airport (MDT), PA. The Class C airspace created is larger than the existing Class D airspace at MDT and is described as areas A through F. In addition, the non-regulatory Terminal Radar Service Area (TRSA) is removed. The FAA is taking this action to enhance the efficient management of air traffic operations and reduce the potential for midair collision in the MDT terminal area.

DATES: Effective date 0901 UTC, July 11, 2024. The Director of the Federal Register approves this incorporation by reference action under 1 CFR part 51, subject to the annual revision of FAA Order 7400.11 and publication of conforming amendments.

ADDRESSES: A copy of the NPRM, all comments received, this final rule, and all background material may be viewed online at www.regulations.gov using the FAA Docket number. Electronic retrieval help and guidelines are available on the website. It is available 24 hours each day, 365 days each year. An electronic copy of this document may also be downloaded from the Office of the Federal Register's website at www.federalregister.gov.

FAA Order JO 7400.11H, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Brian Vidis, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies terminal airspace as required to preserve the safe and efficient flow of air traffic in the Harrisburg, PA, area.

History

The FAA published a notice of proposed rulemaking for Docket No. FAA-2023-1021 in the Federal Register (88 FR 54503; August 11, 2023) proposing to establish Class C airspace area surrounding MDT. Interested parties were invited to participate in this rulemaking effort by submitting written comments on the proposal. Four comments were received.

Discussion of Comments

The FAA received anonymous comments supporting the establishment of the Harrisburg Class C airspace. Discussion of the other comments follows.

One commenter supported the establishment of the Harrisburg Class C airspace. This comment also thanked the FAA for its efforts to ensure that the Class C rulemaking did not affect Capital City Airport (CXY), PA operations, notably the Runway 12/30 traffic pattern and CXY Instrument Landing System (ILS) runway 8 approach, for aircraft that do not meet Class C equipment requirements. This commenter also suggested revising the CXY Class E airspace descriptions in FAA Order JO 7400.11 due to an apparent error.

In response to the comment associated with operations at CXY, the FAA received neither comments nor proposals that would further restrict operations at CXY. Additionally, the FAA did not consider any amendment to the Class C airspace design as proposed in the NPRM. Further, the remainder of the comment is beyond the scope of this rulemaking, noting that the FAA proposed changes to the CXY Class D and Class E airspace via a separate action.¹

¹ Amendment of Class D Airspace, Revocation of Class D Airspace, and Amendment of Class E Airspace, Harrisburg, PA, (88 FR 54956; August 14, 2023).

The last comment was received from Boeing, which identified a possible typographical error in the geographic point “lat. 40°14′12″ N, long. 077°56′05″ W” listed in Area E of the Harrisburg Class C airspace description. The commenter indicated that this point would not create Area E as depicted in the graphic and believed that the geographic point should have been “lat. 40°14′12″ N, long. 076°56′05″ W”. The FAA reviewed the geographic coordinates in the proposed description of Area E and found that the geographic point published as “lat. 40°14′12″ N, long. 077°56′05″ W” was in error and the correct geographic coordinates are “lat. 40°14′12″ N, long. 076°56′05″ W”. The graphic in the NPRM used the correct geographic coordinates for Area E and correctly depicted the intended layout of the Harrisburg Class C airspace.

Differences From the NPRM

Subsequent to publication of the NPRM, a commenter pointed out a typographical error in a geographic coordinate in Area E of the Harrisburg Class C airspace description. In Area E, the geographic point published as “lat. 40°14′12″ N, long. 077°56′05″ W” was in error and the correct geographic coordinates are “lat. 40°14′12″ N, long. 076°56′05″ W”. The geographic point in Area E is changed from “lat. 40°14′12″ N, long. 077°56′05″ W” to “lat. 40°14′12″ N, long. 076°56′05″ W”.

Additionally, the FAA identified three boundary points that must be added to Area D of the Harrisburg Class C airspace description. These three additional boundary points are necessary to ensure that the boundary of Area D aligns with the boundaries of adjacent Area C and Area E. Adding these boundary points does not modify the external boundary of the Class C airspace but rather ensures that the internal boundaries of the airspace are coincident. The three boundary points that are added to Area D are lat. 40°12′37″ N, long. 076°49′12″ W; lat. 40°14′13″ N, long. 076°53′23″ W; lat. 40°14′12″ N, long. 076°56′05″ W. This final rule corrects these errors.

Incorporation by Reference

Class C airspace designations are published in paragraph 4000 of FAA Order JO 7400.11, Airspace Designations and Reporting Points, which is incorporated by reference in 14 CFR 71.1 on an annual basis. This document amends the current version of that order, FAA Order JO 7400.11H, dated August 11, 2023, and effective September 15, 2023. FAA Order JO 7400.11H is publicly available as listed in the ADDRESSES section of this document. This amendment will be published in the next update to FAA Order JO 7400.11.

FAA Order JO 7400.11H lists Class A, B, C, D, and E airspace areas, air traffic service routes, and reporting points.

The Rule

This action amends 14 CFR part 71 by establishing Class C airspace and removing the existing Class D airspace area at the Harrisburg International Airport (MDT), PA. The latitude/longitude coordinates for the MDT and CXY airport reference points (ARP) are updated to reflect the current Airport Master Records data. Also, the existing MDT TRSA is removed and replaced by the Class C airspace area. The FAA is taking this action to enhance the safe and efficient use of airspace and reduce the risk of midair collision in the MDT terminal area (see the attached chart).

The MDT Class C airspace area consists of six sub-areas identified by the letters A through F, described as follows:

Area A: Area A extends from the surface up to 4,400 feet mean sea level (MSL) within a 5 nautical mile (NM) radius of MDT, except for that portion described as Area E, below, and excluding that area within a 1.5 NM radius of CXY, northeast of the airport. Area A replaces the existing Class D airspace at MDT.

Area B: Area B extends from 1,600 feet MSL up to 4,400 feet MSL. It consists of that airspace within 3.5 miles either side of the 117° bearing from MDT, between the 5-mile and 10-mile radii from MDT.

Area C: Area C extends from 1,600 feet MSL up to 4,400 feet MSL. It is located northwest of MDT between the 5-mile and 10-mile radii of MDT and bounded on the south side by Area E. Area C overlies a portion of the CXY Class D airspace area.

Area D: Area D extends from 2,100 feet MSL up to 4,400 feet MSL. Area D is bounded as follows: on the northwest end by the 15-mile radius of MDT northwest of MDT; on the northeast side by a line extending from the intersection of the 15-mile radius of MDT and the MDT's 325° bearing, direct to the intersection of MDT's 089° bearing and the 15-mile radius of MDT southeast of MDT; and on the southwest side, by a line extending from lat. 40°01′45″ N, long. 076°40′43″ W, to lat. 40°05′32″ N, long. 076°50′21″ W, excluding the airspace contained in Areas A, B, C, E, and F. Area D's 2,100-foot floor creates a shelf in the vicinity of Donegal Springs Airpark (N71), allowing for operations beneath the Class C airspace.

Area E: Area E extends from 2,600 feet MSL up to 4,400 feet MSL south and west of CXY. Area E overlays part of the CXY Class D airspace area to the south and west of CXY. Area E allows aircraft to operate to and from CXY without the need for pilots to enter Class C airspace.

Area F: Area F extends from 2,600 feet MSL up to 4,400 feet MSL. The Area F floor creates a shelf below which pilots could fly instrument approaches to Lancaster Airport (LNS) runway 08, without having to enter Class C airspace.

Full descriptions of the MDT Class C subareas are listed in the amendments to part 71 below.

Regulatory Notices and Analyses

The FAA considers the impacts of regulatory actions under a variety of executive orders and other requirements. First, Executive Order 12866 and Executive Order 13563 direct that each Federal agency shall propose or adopt a regulation only upon a reasoned determination that the benefits of the intended regulation justify the costs. Second, the Regulatory Flexibility Act of 1980 (Pub. L. 96-354) requires agencies to analyze the economic impact of regulatory changes on small entities. Third, the Trade Agreements Act (Pub. L. 96-39) prohibits agencies from setting standards that create unnecessary obstacles to the foreign commerce of the United States. Fourth, the Unfunded Mandates Reform Act of 1995 (Pub. L. 104-4) requires agencies to prepare a written assessment of the costs, benefits, and other effects of proposed or final rules that include a Federal mandate that may result in the expenditure by State, local, and tribal governments, in the aggregate, or by the private sector, of $100,000,000 or more (adjusted annually for inflation) in any one year. The current threshold after adjustment for inflation is $183 million using the most current (2023) Implicit Price Deflator for the Gross Domestic Product. This portion of the preamble presents the FAA's analysis of the economic impacts of this rule.

In conducting these analyses, the FAA has determined that this rule: will have a minimal cost impact; is not a “significant regulatory action” as defined in section 3(f)(1) of Executive Order 12866 as amended by Executive Order 14094; will not have a significant economic impact on a substantial number of small entities; will not create unnecessary obstacles to the foreign commerce of the United States; and will not impose an unfunded mandate on State, local, or tribal governments, or the private sector.

This final rule amends 14 CFR part 71 by establishing Class C airspace and removing the existing Class D airspace area at the MDT, PA. In addition, the non-regulatory TRSA is removed. The rule will affect pilots desiring to fly at their current altitudes in and above the Class C airspace. The existing § 91.225 requires all planes to operate in Class C airspace to be equipped with Automatic Dependent Surveillance-Broadcast (ADS-B) Out equipment. Given that there is no Class C airspace at MDT, all planes that fly in and out of MDT must be equipped with ADS-B Out equipment in this airspace once the final rule goes into effect. However, the nearby Capital City Airport is about four miles from MDT and is not part of Class C airspace. The Capital City Airport could accommodate planes without ADS-B Out equipment.

This rule affects pilots because two-way radio communications must be established prior to entering Class C airspace. Pilots who wish to fly without communicating with air traffic control will need to modify their altitude and/or route of flight by either flying above the ceiling, below the shelves, or circumnavigating the Class C airspace. The impact of the final rule will only involve a minimal amount of time to communicate with the air traffic control (ATC). Therefore, the final rule does not have a significant impact on the industry. The FAA is taking this action to reduce the risk of midair collisions and enhance the efficient management of air traffic operations in the Harrisburg terminal area.

Regulatory Flexibility Act

The Regulatory Flexibility Act of 1980 (Pub. L. 96-354) (RFA) establishes “as a principle of regulatory issuance that agencies shall endeavor, consistent with the objectives of the rule and applicable statutes, to fit regulatory and informational requirements to the scale of the businesses, organizations, and governmental jurisdictions subject to regulation. To achieve this principle, agencies are required to solicit and consider flexible regulatory proposals and to explain the rationale for their actions to assure that such proposals are given serious consideration.” The RFA covers a wide range of small entities, including small businesses, not-for-profit organizations, and small governmental jurisdictions.

Agencies must perform a review to determine whether a rule will have a significant economic impact on a substantial number of small entities. If the agency determines it will, it must prepare a regulatory flexibility analysis as described in the RFA. However, if an agency determines that a rule is not expected to have a significant economic impact on a substantial number of small entities, section 605(b) of the RFA provides that the head of the agency may so certify, and a regulatory flexibility analysis is not required. The certification must include a statement providing the factual basis for this determination, and the reasoning should be clear.

This final rule amends 14 CFR part 71 by establishing Class C airspace and removing the existing Class D airspace area at MDT. In addition, the non-regulatory TRSA is removed. The FAA is taking this action to reduce the risk of midair collisions and enhance the efficient management of air traffic operations at the MDT. The change affects general aviation operators using Class C airspace. The impact of the final rule will only involve a minimal amount of time for pilots to communicate with the ATC in Class C airspace. The objectives of these changes are to enhance safety and enable more efficient operations at the MDT without being burdensome to the industry. Therefore, as provided in section 605(b), the head of the FAA certifies that this rulemaking will not result in a significant economic impact on a substantial number of small entities.

International Trade Impact Assessment

The Trade Agreements Act of 1979 (Pub. L. 96-39), as amended by the Uruguay Round Agreements Act (Pub. L. 103-465), prohibits Federal agencies from establishing standards or engaging in related activities that create unnecessary obstacles to the foreign commerce of the United States. Pursuant to these Acts, the establishment of standards is not considered an unnecessary obstacle to the foreign commerce of the United States, so long as the standard has a legitimate domestic objective, such as the protection of safety, and does not operate in a manner that excludes imports that meet this objective. The statute also requires consideration of international standards and, where appropriate, that they be the basis for United States standards. The FAA has assessed the potential effect of this final rule and determined that it should improve safety and is consistent with the Trade Agreements Act. The FAA has assessed the potential impact of this final rule and determined that it will improve safety and is consistent with the Trade Agreements Act.

Unfunded Mandates Assessment

The Unfunded Mandates Reform Act of 1995 (2 U.S.C. 1531-1538) governs the issuance of Federal regulations that require unfunded mandates. An unfunded mandate is a regulation that requires a state, local, or tribal government or the private sector to incur direct costs without the Federal government having first provided the funds to pay those costs. The FAA determined that the final rule will not result in the expenditure of $183 million or more by State, local, or tribal governments, in the aggregate, or the private sector, in any year. This final rule does not contain such a mandate; therefore, the Act does not apply.

Paperwork Reduction Act

The Paperwork Reduction Act of 1995 (44 U.S.C. 3507(d)) requires that the FAA consider the impact of paperwork and other information collection burdens imposed on the public. The FAA has determined that this final rule has no new information collection requirement.

Environmental Review

The FAA has determined that this action of establishing Class C airspace and removing Class D airspace at the Harrisburg International Airport (MDT), PA qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points). As such, this action is not expected to result in any potentially significant environmental impacts. In accordance with FAA Order 1050.1F, paragraph 5-2 regarding Extraordinary Circumstances, the FAA has reviewed this action for factors and circumstances in which a normally categorically excluded action may have a significant environmental impact requiring further analysis. Accordingly, the FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order JO 7400.11H, Airspace Designations and Reporting Points, dated August 11, 2023, and effective September 15, 2023, is amended as follows:

Paragraph 4000 Class C Airspace.

* * * * *

AEA PA C Harrisburg, PA [New]

Harrisburg International Airport, PA

(Lat. 40°11′35″ N, long. 076°45′45″ W)

Capital City Airport, PA

(Lat. 40°13′02″ N, long. 076°51′05″ W)

Boundaries

Area A. That airspace extending upward from the surface to and including 4,400 feet MSL bounded by a line beginning at lat. 40°12′23″ N, long. 076°48′37″ W; thence direct to the intersection of the Capital City Airport's 106° bearing and 1.5-mile radius, thence counterclockwise along the Capital City Airport's 1.5-mile radius to the Harrisburg International Airport's 5-mile radius, thence clockwise along the Harrisburg International Airport's 5-mile radius to the intersection of the 5-mile radius and a line bearing 191° from a point at lat. 40°12′23″ N, long. 076°48′37″ W; thence direct to the point of beginning.

Area B. That airspace extending upward from 1,600 feet MSL to and including 4,400 feet MSL extending from the Harrisburg International Airport's 5-mile radius, and within 3.5 miles each side of the Harrisburg International Airport's 117° bearing to the Harrisburg International Airport's 10-mile radius southeast of the Harrisburg International Airport.

Area C. That airspace extending upward from 1,600 feet MSL to and including 4,400 feet MSL bounded by a line beginning at the intersection of the Capital City Airport's 106° bearing and 1.5-mile radius direct to lat. 40°14′13″ N, long. 076°53′23″ W, direct to lat. 40°14′12″ N, long. 076°56′05″ W; thence direct to lat. 40°14′12″ N, long. 076°58′22″ W; thence clockwise along the Harrisburg International Airport's 10-mile radius to lat. 40°18′58″ N, long. 076°54′35″ W; thence direct to the Harrisburg International Airport's 341° bearing and the Harrisburg International Airport's 5-mile radius, thence counterclockwise along the Harrisburg International Airport's 5-mile radius to the intersection of the Capital City Airport's 1.5-mile radius, thence clockwise along the Capital City Airport's 1.5-mile radius to the point of beginning.

Area D. That airspace extending upward from 2,100 feet MSL to and including 4,400 feet MSL, within an area bounded by a line beginning at lat. 40°14′12″ N, long 076°58′22″ W; thence direct to lat. 40°14′11″ N, long. 077°05′03″ W; thence clockwise along the Harrisburg International Airport's 15-mile radius to the intersection of the Harrisburg International Airport's 325° bearing; thence direct to the intersection of Harrisburg International Airport's 089° bearing and the Harrisburg International Airport's 15-mile radius, thence clockwise along the airport's 15-mile radius to the intersection of the Harrisburg International Airport's 113° bearing; thence direct to lat. 40°01′45″ N, long. 076°40′43″ W; thence direct to lat. 40°05′32″ N, long. 076°50′21″ W; thence direct to lat. 40°12′23″ N, long. 076°48′37″ W; thence direct to lat. 40°12′37″ N, long. 076°49′12″ W; thence direct to lat. 40°14′13″ N, long. 076°53′23″ W; thence direct to lat. 40°14′12″ N, long. 076°56′05″ W; thence to the point of beginning; excluding that airspace contained in Areas A, B, and C.

Area E. That airspace extending upward from 2,600 feet MSL to and including 4,400 feet MSL bounded by a line beginning at lat. 40°12′23″ N, long. 076°48′37″ W; thence direct to lat. 40°05′32″ N, long. 076°50′21″ W; thence direct to the Harrisburg International Airport's 269° bearing and Harrisburg International Airport's 15-mile radius, thence clockwise along the Harrisburg International Airport's 15-mile radius to lat. 40°14′11″ N, long. 077°05′03″ W; thence direct to lat. 40°14′12″ N, long. 076°58′22″ W; thence direct to lat. 40°14′12″ N, long. 076°56′05″ W; thence direct to lat. 40°14′13″ N, long. 076°53′23″ W; thence direct to lat. 40°12′37″ N, long. 076°49′12″ W; thence direct to the point of beginning.

Area F. That airspace extending upward from 2,600 feet MSL to and including 4,400 feet MSL bounded by a line beginning at the intersection of the Harrisburg International Airport's 113° bearing and the airport's 15-mile radius; thence clockwise along the Harrisburg International Airport's 15-mile radius to the intersection of the airports 145° bearing and the airport's 15-mile radius; thence direct to lat. 40°01′45″ N, long. 076°40′43″ W; thence direct to the point of beginning.

* * * * *

Paragraph 5000 Class D Airspace

* * * * *

AEA PA D Harrisburg International Airport, PA [Removed]

* * * * *

Issued in Washington, DC, on May 9, 2024.
Frank Lias,
Manager, Rules and Regulations Group.

[FR Doc. 2024-10612 Filed 5-16-24; 8:45 am]

BILLING CODE 4910-13-P